DEPARTMENT OF DEFENSE

Department of the Air Force

Local Redevelopment Authority and Available Surplus Buildings and Land at Onizuka Air Force Station, Located in Sunnyvale, CA

AGENCY: Department of the Air Force, DoD.

ACTION: Notice.

SUMMARY: This notice provides information regarding the surplus property at Onizuka Air Force Station in Sunnyvale, California and information about the local redevelopment authority that has been established to plan the reuse of the Onizuka Air Force Station. The property is located at the intersection of Highway 101 and California State Route 237.

FOR FURTHER INFORMATION CONTACT: Contact Mr. Thomas B. Kempster, Special Assistant, Air Force Real Property Agency, 1700 North Moore Street, Suite 2300, Arlington, VA 22209-2802, telephone (703) 696-5532.

SUPPLEMENTARY INFORMATION: This surplus property is available under the provisions of the Federal Property and Administrative Services Act of 1949 as amended (40 U.S.C. 501 et seq.) and the Base Closure Community Redevelopment and Assistance Act of 1994.

Notice of Surplus Property: Pursuant to paragraph (7)(B) of section 2905(b) of the Defense Base Closure and Realignment Act of 1990, as amended by the Base Closure Community Redevelopment and Homeless Assistance Act of 1994 (Pub. L. 103-421), the following information regarding the surplus property described herein.

Local Redevelopment Authority: The local redevelopment authority for the Onizuka Air Station, Sunnyvale, CA for purposes of implementing the provisions of the Defense Base Closure and Realignment Act of 1990 as amended, is the Office of the City Manager. All inquiries should be addressed to Ms. Coryn Campbell, Office of the City Manager, 456 West Olive Avenue, Sunnyvale, CA 94066, telephone 408-730-7739.

Surplus Property Description: Land: The property consists of approximately 18 acres of land and 3 acres of easement. Buildings/Structures: 24 buildings containing 570,926 sq ft.

Expressions of Interest: Pursuant to paragraph 7(C) of Section 2905(b) of the Defense Base Closure and Realignment Act of 1990, as amended by the Base Closure and Community Redevelopment and Homeless Assistance Act of 1994, state and local governments, representatives of the homeless, and other interested parties located in the vicinity of Onizuka Air Force Station, Sunnyvale, CA shall submit to the Office of the City Manager, 456 West Olive Avenue, Sunnyvale, CA 94086, a notice of interest, of such governments, representatives, and parties in the above described surplus property, or any portion thereof. A notice shall describe the need of the government, representative, or party concerned, for the desired surplus property. Pursuant to paragraph 7(C) of Section 2905(b), the Office of the City Manager shall assist interested parties in evaluating the surplus property for the intended use, and publish in a newspaper of general circulation within California, the date by which expressions of interest must be submitted.

Bao-Anh Trinh,
DAF, Air Force Federal Register Liaison Officer.

[FR Doc. E6-8232 Filed 5-26-06; 8:45 am]

BILLING CODE 5001-05-P